DEPARTMENT OF COMMERCE

Foreign-Trade Zones Board

Order No. 1581

Approval for Expansion of Subzone 50I, Ultramar Inc. (Oil Refinery), Wilmington, California

Pursuant to its authority under the Foreign-Trade Zones Act of June 18, 1934, as amended (19 U.S.C. 81a-81u), the Foreign-Trade Zones Board (the Board) adopts the following Order:

Whereas, the Port of Long Beach, grantee of Foreign-Trade Zone 50, has requested authority to expand the subzone and the scope of manufacturing activity conducted under zone procedures within the oil refinery subzone of Valero Energy Corporation subsidiary Ultramar Inc., Subzone 50I, located in Wilmington, California (FTZ Docket 17-2008, filed 3/21/2008);

Whereas, notice inviting public comment has been given in the Federal Register (73 FR 17314-17315, 4/1/2008);

Whereas, the Board adopts the findings and recommendations of the examiner's report, and finds that the requirements of the FTZ Act and Board's regulations would be satisfied, and that approval of the application would be in the public interest if approval is subject to the conditions listed below;

Now, therefore, the Board hereby orders:

The application to expand the scope of manufacturing authority under zone procedures within Subzone 50I, is approved, subject to the FTZ Act and the Board's regulations, including § 400.28, and subject to the following conditions:

1. Foreign status (19 CFR §§ 146.41, 146.42) products consumed as fuel for the refinery shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

- petrochemical feedstocks and refinery by-products (examiner's report, Appendix “C”);

- products for export;

- and, products eligible for entry under HTSUS # 9808.00.30 and # 9808.00.40 (U.S. Government purchases).

Signed at Washington, DC, this 7th day of October 2008.

David M. Spooner,
Assistant Secretary of Commerce for Import Administration, Alternate Chairman, Foreign-Trade Zones Board.
Attest:
Andrew McGilvray,
Executive Secretary.

[FR Doc. E8-24901 Filed 10-17-08; 8:45 am]

BILLING CODE 3510-DS-S